Proclamation 7375 of November 10, 2000

Veterans Day, 2000

By the President of the United States of America

A Proclamation

On this day, in ceremonies across our Nation and around the world, Americans gather to pay tribute to our veterans. In community centers and church halls, at VFW posts and U.S. embassies, in quiet cemeteries and on battlefields fallen silent, we pause to honor the brave men and women of our Armed Forces whose devotion to duty and willingness to serve have sustained our country for more than two centuries.

Over the course of our history, some 41 million Americans have served—and more than a million have died—so that we might live in freedom. We are the beneficiaries of their courage, their sacrifice, and their vigilance; and so are countless freedom-loving people around the world.

In the past century alone, through two world wars and the long, tense struggle of the Cold War; on the front lines in Korea, Vietnam, Beirut, Grenada, Panama, Somalia, Haiti, the Persian Gulf, and the Balkans, our brave men and women in uniform have risked their lives to protect U.S. interests, assist our allies, promote peace, and advance our ideals. Thanks to their extraordinary record of service, more people now live under democratic rule than at any other time in history. And today, America is a stronger Nation in a more secure world because of our veterans.

President Kennedy once said, “Democracy is never a final achievement. It is a call to untiring effort, to continual sacrifice and to the willingness, if necessary, to die in its defense.” Today we give thanks to the veterans of our Armed Forces for showing that willingness. Whether serving on bases and in ports at home or deployed across the globe, they have endured hardship and danger to protect our Nation and assist our allies. The story of America has been written, in large part, by the deeds of our veterans—deeds that bind us to our past, inspire us in the present, and strengthen us to meet the challenges of the future.

In honor of those who have served in our Armed Forces, the Congress has provided (5 U.S.C. 6103 (a)) that November 11 of each year shall be set aside as a legal public holiday to honor America's veterans. On Veterans Day, we pay tribute to all those who have served in our Armed Forces, and we remember with deep respect those who paid the ultimate price for our freedom. America's veterans have answered the highest calling of citizenship, and they continue to inspire us with the depth of their patriotism and the generosity of their service.

NOW, THEREFORE, I, WILLIAM J. CLINTON, President of the United States of America, do hereby proclaim Saturday, November 11, 2000, as Veterans Day. I urge all Americans to acknowledge the courage and sacrifice of our veterans through appropriate public ceremonies and private prayers. I call upon Federal, State, and local officials to display the flag of the United States and to encourage and participate in patriotic activities in their communities. I invite civic and fraternal organizations, places of worship, schools, businesses, unions, and the media to support this national observance with suitable commemorative expressions and programs.

IN WITNESS WHEREOF, I have hereunto set my hand this tenth day of November, in the year of our Lord two thousand, and of the Independence of the United States of America the two hundred and twenty-fifth.

wj

[FR Doc. 00-29454

Filed 11-14-00; 8:46 am]

Billing code 3195-01-P